SECURITIES AND EXCHANGE COMMISSION

[File No. 1-12865]

Issuer Delisting; Notice of Application of FiberMark, Inc. to Withdraw Its Common Stock, $.001 Par Value, From Listing and Registration on the American Stock Exchange LLC

April 21, 2004.

FiberMark, Inc., a Delaware corporation (“Issuer”), has filed an application with the Securities and Exchange Commission (“Commission”), pursuant to section 12(d) of the Securities Exchange Act of 1934 (“Act”) ¹ and Rule 12d2-2(d) thereunder,² to withdraw its common stock, $.001 par value (“Security”), from listing and registration on the American Stock Exchange LLC (“Amex” or “Exchange”).

¹ 15 U.S.C. 78l(d).

² 17 CFR 240.12d2-2(d).

On April 2, 2004, the Board of Directors (“Board”) of the Issuer approved resolutions to withdraw the Issuer's Security from listing on the Amex and to quote the Company's Security on the OTC Bulletin Board (“OTCBB”). The Board states that its decision to withdraw the Security from listing and registration on the Amex was based on the fact that the Issuer's Security fell below and Amex's listing standards and the Issuer opted to voluntarily delist its Security. The Issuer states that trading in the Company's Security ceased on the Amex at the close of business on April 12, 2004 and quotation of the Security on the OTCBB began on April 13, 2004.

The Issuer stated in its application that it has met the requirements of Amex Rule l8 by complying with all applicable laws in the State of Delaware, in which it is incorporated, and with the Amex's rules governing an issuer's voluntary withdrawal of a security from listing and registration.

The Issuer's application relates solely to the withdrawal of the Security from listing on the Amex and from registration under section 12(b) of the Act ³ and shall not affect its obligation to be registered under section 12(g) of the Act.⁴

³ 15 U.S.C. 78l(b).

⁴ 15 U.S.C. 78l(g).

Any interested person may, on or before May 14, 2004, submit by letter to the Secretary of the Securities and Exchange Commission, 450 Fifth Street, NW., Washington, DC 20549-0609, facts bearing upon whether the application has been made in accordance with the rules of the Amex and what terms, if any, should be imposed by the Commission for the protection of investors. All comment letters should refer to File No. 1-12865. The Commission, based on the information submitted to it, will issue an order granting the application after the date mentioned above, unless the Commission determines to order a hearing on the matter.

⁵ 17 CFR 200.30-3(a)(1).

For the Commission, by the Division of Market Regulation, pursuant to delegated authority. ⁵
Jonathan G. Katz,
Secretary.

[FR Doc. 04-9521 Filed 4-26-04; 8:45 am]

BILLING CODE 8010-01-P